DEPARTMENT OF VETERANS AFFAIRS

Special Medical Advisory Group; Notice of Meeting

The Department of Veterans Affairs gives notice under Public Law 92-463 (Federal Advisory Committee Act) that the Special Medical Advisory Group will meet on October 15, 2003, from 9 a.m. to 2 p.m. The meeting will be held at the Department of Veterans Affairs Central Office, 810 Vermont Avenue, NW., Room 830, Washington, DC. The meeting is open to the public.

The purpose of the Special Medical Advisory Group is to advise the Secretary and Under Secretary for Health on matters relating to the care and treatment of veterans, and other matters pertinent to the Veterans Health Administration such as research, education and training, and VA/DOD contingency planning. The agenda for the meeting will include discussions of strategic clinical issues of research, education and training of health care professionals, health manpower, and long term care.

Any member of the public wishing to attend should contact Ms. Sylvia Best, Office of the Under Secretary for Health, Department of Veterans Affairs, at (202) 273-5806. No time will be set aside at this meeting for receiving oral presentations from the public. Statements, in written form, may be filed before the meeting or within 10 days after the meeting.

Dated: August 20, 2003.
By Direction of the Secretary.
E. Philip Riggin,
Committee Management Officer.

[FR Doc. 03-22196 Filed 8-29-03; 8:45 am]

BILLING CODE 8320-01-M